DEPARTMENT OF HEALTH AND HUMAN SERVICES

Centers for Disease Control and Prevention

[30DAY-37-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

1. Implementation of Automated Management Information System (MIS) for Diabetes Control Programs—NEW—Centers for Disease Control and Prevention (CDC), National Center for Chronic Disease Prevention and Health Promotion, Division of Diabetes Translation. Diabetes is the seventh leading cause of death in the United States, contributing to more than 193,000 deaths each year. An estimated 10.3 million people in the United States have been diagnosed with diabetes, and an estimated 5.4 million people have undiagnosed diabetes. The Centers for Disease Control and Prevention (CDC), Division of Diabetes Translation (DDT), provides funding to health departments of States and territories to develop, implement, and evaluate systems-based Diabetes Control Programs (DCPs). DCPs are population-based, public health programs that design, implement, and evaluate public health prevention and control strategies that improve access to and quality of care for all and reach communities most impacted by the burden of diabetes (e.g., racial/ethnic populations, the elderly, rural dwellers and the economically disadvantaged). Support for these programs is a cornerstone of the DDT's strategy for reducing the burden of diabetes throughout the nation. The Diabetes Control Program is authorized under sections 301 and 317(k) of the Public Health Service Act [42 U.S.C. sections 241 and 247b(k)].

Funding recipients are required to submit quarterly status reports to CDC that are used by DDT managers and Program Development Officers (PDOs) to identify training and technical assistance needs; monitor compliance with cooperative agreement requirements; evaluate the progress made in achieving national and program-specific goals; and respond to inquiries regarding program activities and effectiveness. Funding recipients currently have a wide latitude in the content of the information they report with some recipients providing extensive and detailed programmatic progress information and others providing minimal detail regarding DCP operations. Historically, information has been collected and transmitted via hard-copy paper documents. The manual reporting system significantly impacts the DDT's staff ability to accomplish its responsibilities resulting from providing DCP funds, particularly with respect to compiling, summarizing, and reporting aggregate DCP program information.

The proposed change in data collection methodology is being driven by DDT's development of an automated management information system (MIS) to maintain individual DCP information and to normalize the information reported by these programs. The proposed data collection will employ a more formal, systematic method of collecting information that has historically been requested from individual DCPs and will standardize the content of this information. This will facilitate the DDT staff's ability to fulfill its obligations under the cooperative agreements; to monitor, evaluate, and compare individual programs; and to assess and report aggregate information regarding the overall effectiveness of the DCP program. It will also support DDT's broader mission of reducing the burden of diabetes by enabling DDT staff to more effectively identify the strengths and weaknesses of individual DCPs and to disseminate information related to successful public health interventions implemented by these organizations to prevent and control diabetes.

Respondents reside in each of the 50 States, 8 Territories, and the District of Columbia and provide progress reporting on a semi-annual frequency. The annual hour burden is estimated at 236 total hours based on 2 hours to complete a semi-annual report twice per year. The annual burden is estimated to be 236 hours.

Annualized Burden to Respondents
Form name | Number of respondents | Number of responses/ respondents | Average burden/ response | Response burden/hrs.
Progress Report | 59 | 2 | 2 | 236

Dated: May 24, 2000.
Nancy Cheal,
Acting Associate Director for Policy, Planning and Evaluation, Centers for Disease Control and Prevention (CDC).

[FR Doc. 00-13504 Filed 5-30-00; 8:45 am]

BILLING CODE 4163-18-P